DEPARTMENT OF HEALTH AND HUMAN SERVICES

Administration for Children and Families

Proposed Information Collection Activity; State Access and Visitation Grant Application (OMB #0970-0482)

AGENCY: Office of Child Support Enforcement, Administration for Children and Families, HHS.

ACTION: Request for public comment.

SUMMARY: The federal Office of Child Support Enforcement (OCSE), Administration for Children and Families (ACF), U.S. Department of Health and Human Services (HHS) is requesting a 3-year extension of the State Access and Visitation Grant Application (OMB #0970-0482, expiration 5/31/2022). There are changes requested to the form.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The Personal Responsibility and Work Opportunity Reconciliation Act of 1996 created the “Grants to States for Access and Visitation” program (AV grant program). Funding for the program began in fiscal year 1997 with a capped, annual entitlement of $10 million. The statutory goal of the program is to provide funds to states that will enable them to provide services for the purpose of increasing noncustodial parent access to and visitation with their children. State governors decide which state entity will be responsible for implementing the AV grant program in addition to determining who will be served, what services will be provided, and whether the services will be statewide or in local jurisdictions. The statute specifies certain activities that may be funded, including voluntary and mandatory mediation, counseling, education, the development of parenting plans, supervised visitation, and the development of guidelines for visitation and alternative custody arrangements. Even though OCSE manages this program, funding for the AV grant is separate from funding for federal and state administration of the child support program.

Section 469B(e)(3) of the Social Security Act (Pub. L. 104-193) requires that each state receiving an AV grant award shall monitor, evaluate, and report on such programs in accordance with regulations. Additionally, the Catalog of Federal Domestic Assistance states that there is an application requirement for Grants to States for Access and Visitation Programs (93.597). The application process assists OCSE in complying with this requirement and emphasizes program efficiency, coordination of services, building support for parenting time services, and ensuring the safety of parents and children.

Specifically, the application requires states to submit a detailed program plan indicating how they anticipate spending their funds within the program statute and regulations. The applications cover 3 fiscal years and any changes made to the plan during the 3-year period will require a notification of change to OCSE.

OCSE will review the applications to ensure that planned services meet the requirements laid out in section 469B(e)(3) of the Social Security Act (Pub. L. 104-193). This review will include monitoring of program compliance and the safe delivery of services. In addition to monitoring, the report will also assist in OCSE's ability to provide technical assistance to states that request assistance.

The State Access and Visitation Grant Application is proposing changes to the application itself, including requirements for states and territories to:

—Address disparities in access;

—ensure the proactive identification of systemic barriers to AV grant services for people of color and other underserved populations;

—describe how grant activities will redress such barriers; and

—describe how outreach and recruitment efforts will promote equity in access for underserved or marginalized populations.

The grant application also expands requirements for partnerships with domestic violence service providers to address the access issues experienced by marginalized victims of domestic violence.

Respondents: Recipients of the State Access and Visitation Grant (54 states and territories).

Annual Burden Estimates
Instrument | Total number of respondents | Total number of responses per respondent | Average burden hours per response | Total burden hours | Annual burden hours
State Access and Visitation Grant Application | 54 | 1 | 10 | 540 | 180

Estimated Total Annual Burden Hours: 180.

Comments: The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Sec. 469B(e)(3), Public Law 104-193.

Mary B. Jones,
ACF/OPRE Certifying Officer.

[FR Doc. 2021-28060 Filed 12-27-21; 8:45 am]

BILLING CODE 4184-41-P